DEPARTMENT OF THE INTERIOR

Minerals Management Service

Announcement of Posting of Two Invitations for Bids on Natural Gas from Federal Properties in the Gulf of Mexico

AGENCY: Minerals Management Service, Interior.

ACTION: Notice of Invitations for Bids on Federal Royalty Gas.

SUMMARY: The Minerals Management Service has posted on MMS's Internet Home Page, and will make available in hard copy, public competitive offerings of approximately 490,000 mmBtu per day of natural gas, to be taken as royalty-in-kind from Federal properties in the Gulf of Mexico under two Invitations For Bids (IFB), Numbers MMS-RIK-2000-GOMR-002, and MMS-RIK-2000-GOMR-003.

DATES: The two IFBs were posted on MMS's Internet Home Page on January 21, 2000. Bids will be due to MMS at the posted receipt location on February 18, 2000. MMS will notify successful bidders on or about February 25, 2000. The Federal Government will begin actual taking of awarded royalty gas volumes for delivery to successful bidders for a 7-month period beginning on April 1, 1999.

ADDRESSES: The IFBs are posted on MMS's Home Page at http://www.mms.gov under the icon “What's New.” The IFBs may also be obtained by contacting Mr. Michael Del-Colle at the address in the FURTHER INFORMATION section. Bids should be submitted to the address provided in the IFBs.

FOR FURTHER INFORMATION CONTACT: For additional information on MMS's RIK pilots, contact Mr. Bonn J. Macy, Minerals Management Service, 1849 C Street, NW, MS 4230,Washington DC 20240; telephone number (202) 208-3827; fax (202)208-3918; e-mail Bonn.Macy@mms.gov. For additional information concerning the IFB document, terms, and process for Federal leases, contact Mr. Michael Del-Colle, Minerals Management Service, MS-2510, 381 Elden Street, Herndon, VA 20170-4817; telephone number (703) 787-1375; fax (703) 787-1009; e-mail Michael.Del-Colle@mms.gov.

SUPPLEMENTARY INFORMATION: These offerings of natural gas continue MMS's RIK pilot program and will involve Federal properties in the Gulf of Mexico. MMS's objective is to identify the circumstances in which taking oil and gas royalties as a share of production is a viable alternative to its usual practice of collecting oil and gas royalties as a share of the value received by the lessee for sale of the production.

IFB Number MMS-RIK-2000-GOMR-002 offers approximately 280,000 mmBtu per day of natural gas from selected Federal properties located in the East Breaks, Garden Banks, High Island, East and West Cameron, and Vermillion areas of the Gulf of Mexico. This royalty gas flows through 88 facility measurement points (FMP's) on five pipeline systems—High Island/UTOS, ANR, Transco/NHIS, Pelican, and Stingray. This production was offered most recently October 8, 1999, under IFB No. RIK-2000-GOMR-001 for deliveries through March 31, 2000. Under terms of this new IFB, purchasers will, as before, take the royalty gas from these properties and locations near the lease and, in return, deliver a fixed daily volume of natural gas (based on monthly nominations) to the General Services Administration (GSA) at a specified location for GSA's use in managing supply commitments to Federal agency end users.

IFB Number MMS-RIK-2000-GOMR-003 offers an additional natural gas volume of approximately 210,000 mmBtu per day from selected Federal properties in the East and West Cameron, Garden Banks, Vermilion, South Marsh, Ship Shoal and Eugene Island areas. This production flows through about 84 FMP's on the Sea Robin and Bluewater Pipeline systems. Successful bidders will be required to deliver production volumes to an onshore location; further disposition of these volumes will be announced at a later date.

Purchasers may bid on production from all FMPs on both pipelines, and/or for all FMPs on the Sea Robin Pipeline, and/or from all FMPs on individual segments of the Bluewater Pipeline.

The following are some of the additional details regarding the offerings that were posted to MMS's website as two IFB's on January 21, 2000.

• List of specific properties;

• For each property—FMP location and identification number, average daily royalty volume, 1-year production histories, quality, current operator; and other pipeline information.

• Bid basis;

• Reporting requirements;

• Terms and conditions; and

• Contract format.

Information on the internet posting and availability of the IFB in hard copy are being made available to oil and gas trade journals as well as in this Federal Register notice.

Dated: January 31, 2000.
Walter D. Cruickshank,
Associate Director for Policy and Management Improvement.

[FR Doc. 00-2598 Filed 2-4-00; 8:45 am]

BILLING CODE 4310-MR-P